SECURITIES AND EXCHANGE COMMISSION

[Release Nos. 33-8512; 34-50849; IC-26693; File No. S7-12-04]

RIN 3235-AJ16

Disclosure Regarding Portfolio Managers of Registered Management Investment Companies

AGENCY: Securities and Exchange Commission.

ACTION: Notice of OMB approval of collections of information.

FOR FURTHER INFORMATION CONTACT: Sanjay Lamba, Senior Counsel, Office of Disclosure Regulation, Division of Investment Management, (202) 942-7926, at the Securities and Exchange Commission, 450 Fifth Street, NW., Washington, DC 20549-0506.

SUPPLEMENTARY INFORMATION: The Office of Management and Budget has approved the collections of information requirements contained in Disclosure Regarding Portfolio Managers of Registered Management Investment Companies,¹ titled “Form N-1A under the Investment Company Act of 1940 and Securities Act of 1933, Registration Statement of Open-End Management Investment Companies” (OMB Control No. 3235-0307) and “Form N-CSR under the Investment Company Act of 1940 and Securities Exchange Act of 1934, Certified Shareholder Report of Registered Management Investment Companies” (OMB Control No. 3235-0570).

¹ Investment Company Act Release No. 26533 (August 23, 2004) [69 FR 52788 (August 27, 2004)].

Dated: December 14, 2004.
Margaret H. McFarland,
Deputy Secretary.

[FR Doc. E4-3721 Filed 12-17-04; 8:45 am]

BILLING CODE 8010-01-P